DEPARTMENT OF HEALTH AND HUMAN SERVICES

Announcement of Requirements and Registration for “Health Design Challenge”

AGENCY: Office of the National Coordinator for Health Information Technology, HHS.

Award Approving Official: Farzad Mostashari, National Coordinator for Health Information Technology.

ACTION: Notice.

SUMMARY: Blue Button for America is a collaborative Federal effort led by the Department of Health and Human Services and the Department of Veterans Affairs to ensure everyone across the country gets access to their medical records. By clicking on a Blue Button icon, patients can get their personal health information in an electronic format—a service that has not been available to most people until very recently. Because of Blue Button, over 1 million Americans have already downloaded their health records from their medical providers and insurance companies, and the number is expected to increase dramatically in the near future.

Being able to access your health information on demand can be lifesaving in an emergency situation, can help prevent medication errors, and can improve care coordination so everyone who is caring for you is on the same page. However, too often health information is presented in an unwieldy and unintelligible way that makes it hard for patients, their caregivers, and their physicians to use. There is an opportunity for talented designers to reshape the way health records are presented to create a better patient experience.

The statutory authority for this challenge competition is Section 105 of the America COMPETES Reauthorization Act of 2010 (Pub. L. 111-358).

DATES: Effective on October 16, 2012. Challenge submission period ends November 30, 2012, 11:59 p.m. et.

FOR FURTHER INFORMATION CONTACT: Adam Wong, 202-720-2866 and Ryan Panchadsaram, 202-690-0099

SUPPLEMENTARY INFORMATION:

Subject of Challenge Competition:

The purpose of this challenge is to improve the design of the medical record so it is more usable by and meaningful to patients, their families, and others who take care of them. This is an opportunity to take the plain-text Blue Button file and enrich it with visuals and a better layout. Innovators will be invited to submit their best designs for a medical record that can be printed and viewed digitally.

This challenge will focus on the content defined by a format called the Continuity of Care Document (CCD). A CCD is a common template used to describe a patient's health history and can be output by electronic medical record (EMR) software. Submitted designs should use the sections and fields found in a CCD. See the resources section on Challenge.gov for a sample CCD.

Challenge entrants will submit a design that:

Improves the visual layout and style of the information from the medical record.

Makes it easier for a patient to manage his/her health.

Enables a medical professional to digest information more efficiently

Aids a caregiver such as a family member or friend in his/her duties and responsibilities with respect to the patient

Entrants should be conscious of how the wide variety of personas will affect their design. Our healthcare system takes care of the following types of individuals:

An underserved inner-city parent with lower health literacy.

A senior citizen that has a hard time reading.

A young adult who is engaged with technology and mobile devices.

An adult whose first language is not English.

A patient with breast cancer receiving care from multiple providers.

A busy mom managing her kids' health and helping her aging parents.

This challenge is an opportunity for talented individuals to touch the lives of Americans across the country through design. The most innovative designs will be showcased in an online gallery and in a physical exhibit at the Annual ONC Meeting in Washington DC. Winning submissions will receive monetary prizes.

A panel of curators will select a final design (that may combine elements of numerous winning designs) that will be built and open-sourced on the code sharing community Github. Open sourcing the final product will enable EHR developers to improve on it by adding new functionality or creating new styles that serve different patient populations, and to integrate it into actual products.

The Department of Veterans Affairs enthusiastically supports the open-source development of the design because it could enable them to improve MyHealtheVet, the patient portal used by veterans and their families across the country.

Because of the collaborative and open source nature of the challenge, all entries are required to be submitted under a Creative Commons license. This license allows the community to use and adapt the designs while ensuring that the designer receives attribution. More details on the license can be found at http://creativecommons.org.

In order for an entry to be eligible to win this Challenge, it must meet the following requirements:

Deliverable: Must be an image or browser viewable file. The acceptable image formats: .PNG, .JPG, .GIF, .TIFF, .PSD, .AI, and .PDF. The acceptable browser viewable format is .HTML.

Feasibility: This challenge requires only that the design of the medical record to be submitted. It is not the responsibility of the entrant to build or code a working version of the design. However, the design must be ultimately implementable using HTML, CSS, and JavaScript.

Data: The design must be built off the data fields found in a Continuity of Care Document (CCD).

Eligibility Rules for Participating in the Competition:

To be eligible to win a prize under this challenge, an individual or entity—

(1) Shall have registered to participate in the competition under the rules promulgated by the Office of the National Coordinator for Health Information Technology.

(2) Shall have complied with all the requirements under this section.

(3) In the case of a private entity, shall be incorporated in and maintain a primary place of business in the United States, and in the case of an individual, whether participating singly or in a group, shall be a citizen or permanent resident of the United States.

(4) May not be a Federal entity or Federal employee acting within the scope of their employment.

(5) Shall not be an HHS employee working on their applications or submissions during assigned duty hours.

(6) Shall not be an employee of Office of the National Coordinator for Health IT.

(7) Federal grantees may not use Federal funds to develop COMPETES Act challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

Entrants must agree to assume any and all risks and waive claims against the Federal Government and its related entities, except in the case of willful misconduct, for any injury, death, damage, or loss of property, revenue, or profits, whether direct, indirect, or consequential, arising from my participation in this prize contest, whether the injury, death, damage, or loss arises through negligence or otherwise.

Entrants must also agree to indemnify the Federal Government against third party claims for damages arising from or related to competition activities.

Registration Process for Participants:

To register for this challenge participants should either:

Access the www.challenge.gov Web site and search for the “Health Design Challenge”.

Access the ONC Investing in Innovation (i2) Challenge Web site at:

○ http://www.health2con.com/devchallenge/challenges/onc-i2-challenges/.

○ A registration link for the challenge can be found on the landing page under the challenge description.

Amount of the Prize:

Each submission will be considered for all four prize categories listed below. A review panel will select winners based on defined criteria (below). An individual submission can win multiple awards.

Overall Design: $16,000 (1st), $6,000 (2nd), and $4,000 (3rd).

Best Medication Section—$5,000 (1st), $3,000 (2nd), and $1,000 (3rd).

Best Medical/Problem History Section—$5,000 (1st), $2,000 (2nd), and $1,000 (3rd).

Best Lab Summaries—$5,000 (1st), $2,000 (2nd), and $1,000 (3rd).

Awards may be subject to Federal income taxes and HHS will comply with IRS withholding and reporting requirements, where applicable.

Payment of the Prize:

Prize will be paid by contractor.

Basis Upon Which Winners Will Be Selected:

The review panel will make selections based upon the following criteria:

Overall Appeal.

Patient Usefulness—Does it address the needs of a patient?

Caregiver Usefulness—Does it ease the responsibilities of a caregiver?

Physician Usefulness—Can a physician integrate it into their workflow?

Visual Hierarchy—Can the most important information be easily found?

Information Density—Is it easy to digest the information that is presented?

Accessibility—Can a varied population make use of this document?

Additional Information:

Authority: 15 U.S.C. 3719.

Dated: October 15, 2012.
Farzad Mostashari,
National Coordinator for Health Information Technology.

[FR Doc. 2012-25954 Filed 10-19-12; 8:45 am]

BILLING CODE 4150-45-P